DEPARTMENT OF LABOR

Employment and Training Administration

[TA-W-38,732 and TA-W-38,732A]

Haggar Clothing Company Edinburg Manufacturing Edinburg, Texas and Weslaco Operations, Weslaco, Texas; Amended Certification Regarding Eligibility to Apply for Worker Adjustment Assistance

In accordance with section 223 of the Trade Act of 1974 (19 U.S.C. 2273) the Department of Labor issued a Notice of Certification Regarding Eligibility to Apply for Worker Adjustment Assistance on April 12, 2001, applicable to workers of Haggar Clothing Company, Edinburg Manufacturing, Edinburg, Texas and Haggar Clothing Company, Weslaco Operations, Weslaco, Texas. The notice was published in the Federal Register on May 2, 2001 (FR 66 22006).

At the request of the State agency, the Department reviewed the certification for workers of the subject firm. The workers produce men's pants, shorts and coats. New findings show that there was a previous certification, TA-W-35,858 and TA-W-38,858A, issued on April 30, 1999, for workers of Haggar Clothing Company, Edinburg Manufacturing, Edinburg, Texas and Haggar Clothing Company, Weslaco Operations, Weslaco, Texas who were engaged in employment related to the production of men's pants, shorts and coats. That certification expired April 30, 2001. To avoid an overlap in worker group coverage, the certification is being amended to change the impact date from February 14, 2000 to May 1, 2001, for workers of the subject firm.

The amended notice applicable to TA-W-38,732 and TA-W-38,732A is hereby issued as follows:

All workers of Haggar Clothing Company, Edinburg Manufacturing, Edinburg, Texas (TA-W-38,732) and Haggar Clothing Company, Weslaco Operations, Weslaco, Texas (TA-W-38,732A) who became totally or partially separated from employment on or after May 1, 2001 through April 12, 2003 are eligible to apply for adjustment assistance under Section 223 of the Trade Act of 1974.

Signed at Washington, DC this 7th day of May, 2001.
Linda G. Poole,
Certifying Officer, Division of Trade Adjustment Assistance.

[FR Doc. 01-12998 Filed 5-22-01; 8:45 am]

BILLING CODE 4510-30-M